DEPARTMENT OF HEALTH AND HUMAN SERVICES

National Institutes of Health

National Institute of Environmental Health Sciences; Amended Notice of Meeting

Notice is hereby given of a change in the meeting of the Board of Scientific Counselors, NIEHS, March 28, 2021, 04:00 p.m. to March 30, 2021, 04:30 p.m., National Institute of Environmental Health Science, 111 T.W. Alexander Drive, Research Triangle Park, NC 27709 which was published in the Federal Register on March 05, 2021, 86 FR 12961.

This Federal Register Notice is being amended due to a time change in the morning open session on March 29, 2021. The new morning open session will start at 9:30 a.m. and end at 11:30 a.m. on March 29th, 2021. The meeting is partially Closed to the public.

Dated: March 15, 2021.
David W. Freeman,
Program Analyst, Office of Federal Advisory Committee Policy.

[FR Doc. 2021-05669 Filed 3-18-21; 8:45 am]

BILLING CODE 4140-01-P